LEGAL SERVICES CORPORATION

Sunshine Act Meeting; Cancellation—Institutional Advancement Committee

On August 8, 2013, the Legal Services Corporation (“LSC” or “Corporation”) issued a public announcement that the Institutional Advancement Committee will meet telephonically on August 20, 2013, at 4 p.m., Eastern Daylight Time (“EDT”). This announcement was published in the Federal Register on August 12, 2013, at 78 FR 48910. This announcement is for the purpose of informing the public that the telephonic meeting of August 20, 2013 has been cancelled.

FOR FURTHER INFORMATION CONTACT: Atitaya Rok, Staff Attorney, at (202) 295-1500. Questions may be sent by electronic mail to FR_NOTICE_QUESTIONS@lsc.gov.

Dated: August 16, 2013.
Atitaya C. Rok,
Staff Attorney.

[FR Doc. 2013-20454 Filed 8-19-13; 11:15 am]

BILLING CODE 7050-01-P